Proclamation 7596 of September 20, 2002

Minority Enterprise Development Week, 2002

By the President of the United States of America

A Proclamation

Entrepreneurs help make America strong and are essential to our economic success. Their talent, skill, and hard work have helped sustain our Nation since its founding; and their disciplined work ethic and capacity for innovation reflect the true character of our country. During Minority Enterprise Development Week, we celebrate our more than 3 million minority- owned businesses, and we recognize the important contributions they make to the United States of America.

To promote prosperity in our Nation, Government must help create an environment where innovative, hardworking, and determined individuals have the opportunity to fully participate and succeed in our economy. Last year's tax relief initiative, including the repeal of the “Death Tax,” was an important part of developing an enhanced business climate in America. And this year, I signed two pieces of legislation into law that will promote growth. The Trade Act of 2002 gives me new Trade Promotion Authority that will help boost our economy, create new jobs, and provide America with the opportunity to participate in new and emerging international markets. And the Sarbanes-Oxley Act of 2002 will improve business practices by creating tough corporate responsibility laws that will help expose and punish acts of corruption and protect small investors. These vital initiatives will benefit minority business enterprises and help these important job creators compete fully and fairly in the global economy.

My Administration, through the efforts of the Department of Commerce's Minority Business Development Agency (MBDA) and the Small Business Administration (SBA), is committed to promoting the growth of minority businesses. In FY 2001, the MBDA assisted minority businesses in gaining access to $1.6 billion in contracts. In addition, last year the SBA offered assistance to more than 1 million small business owners, and continues to play a major role in our Nation's disaster relief efforts by making low-interest recovery loans available to Americans. The important efforts of the MBDA and SBA help businesses build entrepreneurial opportunity for all.

NOW, THEREFORE, I, GEORGE W. BUSH, President of the United States of America, by virtue of the authority vested in me by the Constitution and laws of the United States, do hereby proclaim September 22 through September 28, 2002, as Minority Enterprise Development Week. I call upon all Americans to celebrate this week with appropriate observances, ceremonies, and activities, and to recognize the countless contributions of our Nation's minority enterprises.

IN WITNESS WHEREOF, I have hereunto set my hand this twentieth day of September, in the year of our Lord two thousand two, and of the Independence of the United States of America the two hundred and twenty-seventh.

B

[FR Doc. 02-24465

Filed 9-24-02; 8:45 am]

Billing code 3195-01-P